DEPARTMENT OF THE INTERIOR

National Park Service

National Register of Historic Places; Weekly Listing of Historic Properties

Pursuant to (36 CFR 60.13(b, c)) and (36 CFR 63.5), this notice, through publication of the information included herein, is to apprise the public as well as governmental agencies, associations and all other organizations and individuals interested in historic preservation, of the properties added to, or determined eligible for listing in, the National Register of Historic Places from May 18, to May 22, 2009.

For further information, please contact Edson Beall via: United States Postal Service mail, at the National Register of Historic Places, 2280, National Park Service, 1849 C St., NW., Washington, DC 20240; in person (by appointment), 1201 Eye St., NW., 8th floor, Washington, DC 20005; by fax, 202-371-2229; by phone, 202-354-2255; or by e-mail, Edson_Beall@nps.gov.

Dated: July 7, 2009.
J. Paul Loether,
Chief, National Register of Historic Places/National Historic Landmarks Program.

KEY: State, County, Property Name, Address/Boundary, City, Vicinity, Reference Number, Action, Date, Multiple Name

ARIZONA

Maricopa County

McCullough-Price House, 300 S. Chandler Village Dr., Chandler, 09000311, LISTED, 5/20/09

ARKANSAS

Phillips County

Battery D (Boundary Increase), Address Restricted, Helena-West Helena, 09000317, LISTED, 5/20/09

Poinsett County

Highway A-7, Ditch No. 6 Bridge, E. Davis St. over Ditch No. 6 SE. of Steel Bridge Rd., Tyronza, 09000319, LISTED, 5/20/09 (Historic Bridges of Arkansas MPS)

Poinsett County

Highway A-7, Tyronza Segment, old US 63 between Memphis Ave. and the Tyronza River, Tyronza, 09000320, LISTED, 5/20/09 (Arkansas Highway History and Architecture MPS)

Pulaski County

Mitchell, James, School, 2410 S. Battery St., Little Rock, 09000322, LISTED, 5/20/09

Pulaski County

Smith, Morgan, Dr., House, 5110 Stagecoach Rd., Little Rock, 09000323, LISTED, 5/20/09

St. Francis County

Highway B-1, Little Telico Creek Bridge, SFC 213 Rd. over Little Telico Creek, Caldwell, 09000316, LISTED, 5/20/09 (Historic Bridges of Arkansas MPS)

CALIFORNIA

Los Angeles County

Brockman Building and New York Cloak and Suit House (annex), 520 W. 7th St. and 708 S. Grand Ave., Los Angeles, 08001276, LISTED, 5/21/09

FLORIDA

Lake County

Witherspoon Lodge No. 111 Free and Accepted Masons (F&AM), 1410 N. Clayton St., Mount Dora, 09000346, LISTED, 5/21/09 (Mount Dora, FL)

GEORGIA

Cobb County

Pace, Solomon and Penelopy, House, 3057 Paces Mill Rd., Vinings, 09000325, LISTED, 5/20/09

Douglas County

Basket Creek Cemetery, 7829 Capps Ferry Rd., Douglasville vicinity, 09000326, LISTED, 5/20/09

Henry County

Hooten, James and Bertha, House, 115 Atlanta St., McDonough, 09000327, LISTED, 5/20/09

ILLINOIS

Cook County

Frank Lloyd Wright-Prairie School of Architecture Historic District (Boundary Increase), Roughly bounded by Division St. on the N., N. Cuyler Ave. on the E., Lake St. on the S. and N. Harlem Ave on the W., Oak Park, 08001096, LISTED, 5/22/09

IOWA

Buchanan County

Malek Theatre, 116 2nd Ave. NE., Independence, 09000329, LISTED, 5/21/09

KANSAS

Crawford County

S-W Supply Company, 215 E. Prairie, Girard, 09000348, LISTED, 5/21/09

Jackson County

Holton Bath House, 711 Nebraska Ave., Holton, 09000351, LISTED, 5/21/09 (New Deal-Era Resources of Kansas MPS)

Sedgwick County

Smyser House, 931 Buffum Ave., Wichita, 09000353, LISTED, 5/21/09 (Residential Resources of Wichita, Sedgwick County, Kansas 1870-1957)

MISSOURI

Adair County

Kirksville Courthouse Square Historic District, 200 block N. Franklin St., 100 block E. Harrison St., 100 block W. Harrison St., Kirksville, 09000330, LISTED, 5/21/09

OKLAHOMA

Tulsa County

Atlas Life Building, 415 S. Boston Ave., Tulsa, 09000358, LISTED, 5/19/09

VIRGINIA

Caroline County

Grove, The, 33115 Mount Gideon Rd., Hanover vicinity, 09000333, LISTED, 5/21/09

Danville Independent City

Danville Tobacco Warehouse and Residential Historic District (Boundary Increase), 209 and 215 Main St., Danville, 09000334, LISTED, 5/21/09

Fairfax County

Woodlawn Quaker Meetinghouse, 8990 Woodlawn Rd., Fort Belvoir, 09000335, LISTED, 5/21/09

Fauquier County

Bristersburg Historic District, Area including parts of Elk Run and Bristersburg Rds., Bristersburg, 09000336, LISTED, 5/21/09

Fauquier County

Sumerduck Historic District, Area including parts of Sumerduck Rd., Sumerduck, 09000337, LISTED, 5/21/09

Patrick County

Barnard Farm, 2878 VA 648, Ararat vicinity, 09000338, LISTED, 5/21/09

WASHINGTON

Pierce County

American Lake Veterans Hospital, 9600 Veterans Dr., SW., Tacoma, 09000218, LISTED, 5/19/09

WISCONSIN

Heboygan County

Byron (schooner) Shipwreck, Address Restricted, Oostburg vicinity, 09000368, LISTED, 5/20/09 (Great Lakes Shipwreck Sites of Wisconsin MPS)

[FR Doc. E9-16419 Filed 7-10-09; 8:45 am]

BILLING CODE 4310-70-P